DEPARTMENT OF COMMERCE

Agency Information Collection Activities; Submission to the Office of Management and Budget (OMB) for Review and Approval; Comment Request; Generic Clearance for Challenge and Prize Competition Solicitations

The Department of Commerce will submit the following information collection request to the Office of Management and Budget (OMB) for review and clearance in accordance with the Paperwork Reduction Act of 1995, on or after the date of publication of this notice. We invite the public and other Federal agencies to comment on proposed, and continuing information collections, which helps us assess the impact of our information collection requirements and minimize the public's reporting burden. Public comments were previously requested via the Federal Register on March 24, 2020 during a 60-day comment period. This notice allows for an additional 30 days for public comments.

Agency: Office of the Secretary, Department of Commerce.

Title: Generic Clearance for Challenge and Prize Competition Solicitations.

OMB Control Number: 0690-0031.

Form Number(s): None.

Type of Request: Regular submission (extension of a current information collection).

Number of Respondents: 1,560

Average Hours per Response: 10-30 minutes.

Burden Hours: 260.

Needs and Uses: In 2011, Federal agencies including DOC were given prize authority for administering challenges and competitions. Section 105(a) of the America Competes Act adds Section 24 to the Stevenson-Wydler Technology Innovation Act of 1980 (15 U.S.C. 3701 et seq.) that addresses provisions for challenges and competitions with prizes conducted by Federal agencies. Challenges and competitions enable DOC to tap into the expertise and creativity of the public in new ways. DOC has sponsored challenges and competitions in a wide variety of areas to increase public participation and solicit new ideas on a wide array of topics important to the agency's mission. DOC's goal is to engage a broader number of stakeholders who are inspired to work on some of our most pressing issues.

The information collected will be used to understand whether the participant has met the technical requirements for the challenge, assist in the technical review and judging of the solutions that are provided, and understand the impact and consequences of administering the competition and developing solutions for submission. Information may be collected during the competition or after its completion. The submissions are evaluated by the submitting agency and typically prizes (monetary and non-monetary) are awarded to the winning entries.

This clearance applies to challenges posted on Challenge.gov, which uses a common platform for the solicitation of challenges from the public. Each agency designs the criteria for its solicitations based on the goals of the challenge and the specific needs of the agency. There is no standard submission format for solution providers to follow.

We anticipate that approximately 250 challenges would be issued each year by DOC. It is expected that other federal agencies will issue a similar number of challenges. There is no set schedule for the issuance of challenges; they are developed and issued on an “as needs” basis in response to issues the federal agency wishes to solve. The respondents to the challenges, who are participating voluntarily, are unlikely to reply to more than one or several of the challenges.

Although in previous memoranda the GSA and Office of Management and Budget (OMB) described circumstances whereby OMB approval of a PRA request is not needed, program officials at DOC have identified several sets of information that will typically need to be requested of solution providers to enable the solutions to be adequately evaluated by the program office issuing the challenge. These requests for additional information have been suggested to require a PRA review as they represent structured data requests.

There are three types of additional data that may routinely be requested. These include the following:

Title and/or Subject of the submission. Due to the nature of the submission and evaluation processes, it is important that a title and/or subject be requested and submitted for each submission to ensure the solution is correctly identified with its provider.

Identification of data resources. In many cases, the solution to a problem will require the solution provider to use data resources. Often, the nature of the data sets will be derived from Federal data resources, such as data.gov. Evaluations of solutions will often depend on the understanding of the selection of the data resource(s) used in the solution.

Description of methodology. For effective judging and evaluation, a description of the development methods for the solution to the challenge will be requested. For instance, a prize may be awarded to the solution of a challenge to develop an algorithm that enables reliable prediction of a certain event. A responder could submit the correct algorithm, but without the methodology, the evaluation process could not be adequately performed.

Affected Public: Individuals or households; Business or other for-profit organizations; Not-for-profit institutions; State, Local, or Tribal government; Federal government.

Frequency: As needed.

Respondent's Obligation: Voluntary.

Legal Authority: 15 U.S.C. 3701 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0690-0031.

Sheleen Dumas,
Department PRA Clearance Officer, Office of the Chief Information Officer, Commerce Department.

[FR Doc. 2020-14644 Filed 7-7-20; 8:45 am]

BILLING CODE 3510-13-P